SECURITIES AND EXCHANGE COMMISSION

Sunshine Act Meeting

Notice is hereby given, pursuant to the provisions of the Government in the Sunshine Act, Public Law 94-409, that the Securities and Exchange Commission Investor Advisory Committee will hold its inaugural meeting on Tuesday, June 12, 2012, in Multi-Purpose Room LL-006 at the Commission's headquarters, 100 F Street NE., Washington, DC. The meeting will begin at 10:00 a.m. (EDT) and will be open to the public. Seating will be on a first-come, first-served basis. Doors will open at 9:30 a.m. Visitors will be subject to security checks. The meeting will be webcast on the Commission's Web site at www.sec.gov.

On May 14, 2012, the Commission issued notice of the Committee meeting (Release No. 33-9322), indicating that the meeting is open to the public and inviting the public to submit written comments to the Committee. This Sunshine Act notice is being issued because a majority of the Commission may attend the meeting.

The agenda for the meeting includes introduction of the Committee members, remarks by the Chairman and Commissioners, discussion and approval of bylaws and charter, discussion of subcommittees, and election of officers.

For further information, please contact the Office of the Secretary at (202) 551-5400.

Dated: June 1, 2012.
Kevin M. O'Neill,
Deputy Secretary.

[FR Doc. 2012-13965 Filed 6-5-12; 4:15 pm]

BILLING CODE 8011-01-P